DEPARTMENT OF HEALTH AND HUMAN SERVICES

Substance Abuse and Mental Health Services Administration

Notice of a Meeting

Pursuant to Public Law 92-463, notice is hereby given of a meeting of the Substance Abuse and Mental Health Services Administration (SAMHSA) National Advisory Council in December 2003.

The SAMHSA National Advisory Council meeting will be open and will include a report by the SAMHSA Administrator on how the Agency is managing its Matrix priorities and cross-cutting principles, the President's Management Agenda, and SAMHSA's work in partnership with other Federal agencies. There will be updates on SAMHSA's Budget, SAMHSA's FY 2004 Appropriation's, the Charitable Choice Regulations, and the Program Assessment Rating Tool review. In addition, the meeting will include a presentation by SAMHSA's newly appointed CMHS Director who will describe her vision for CMHS and mental health. There will also be discussions on workforce development, national disaster and trauma, SAMHSA's Children and Families Agenda, and SAMHSA's data strategy.

Attendance by the public will be limited to space available. Public comments are welcome. Please communicate with the individual listed as contact below to make arrangements to comment or to request special accommodations for persons with disabilities.

Substantive program information, a summary of the meeting, and a roster of Council members may be obtained either by accessing the SAMHSA Council Web site, www.samhsa.gov/council/council or by communicating with the contact whose name and telephone number is listed below. The transcript for the open session will also be available on the SAMHSA Council Web site.

Committee Name: SAMHSA National Advisory Council.

Date/time: Thursday, December 11, 2003, 9 a.m. to 4:30 p.m. (Open); Friday, December 12, 2003, 9 a.m. to 11:15 p.m. (Open).

Place: Embassy Suites Hotel, Chevy Chase Room, 4300 Military Road, NW., Washington, DC 20015.

FOR FURTHER INFORMATION CONTACT: Toian Vaughn, Executive Secretary, 5600 Fishers Lane, Parklawn Building, Room 12C-05, Rockville, MD 20857, Telephone: (301) 443-7016; Fax: (301) 443-7590 and E-mail: tvaughn@samhsa.gov.

Dated: November 18, 2003.
Toian Vaughn,
Committee Management Officer, SAMHSA.

[FR Doc. 03-29614 Filed 11-26-03; 8:45 am]

BILLING CODE 4162-20-P